DEPARTMENT OF THE INTERIOR

Bureau of Land Management

[BLM_WY_FRN_MO4500176205; WYW-34993, WYW-87111]

Notice of Proposed Withdrawal Extensions and Opportunity for Public Meeting for the Castle Gardens Recreation Area and White Mountain Petroglyphs Site, Wyoming

AGENCY: Bureau of Land Management, Interior.

ACTION: Notice of proposed withdrawal extension.

SUMMARY: The Secretary of the Interior proposes to extend Public Land Order (PLO) No. 6578 and PLO No. 6597, each for an additional 20-year term, as requested by the Bureau of Land Management (BLM). PLO No. 6578, as extended by PLO No. 7612, withdrew 110 acres of BLM land from settlement, sale, location, or entry under the general land laws, including the United States mining laws, but not from leasing under the mineral leasing laws, to protect the recreational and aesthetic values of and the capital investments made in the Castle Garden Recreation Site in Washakie County, Wyoming. PLO No. 6597, as extended by PLO No. 7621, withdrew 20 acres of BLM land from settlement, sale, location, or entry under the general land laws, including the United States mining laws, but not from leasing under the mineral leasing laws, to protect the scientific, artistic, and educational values of the White Mountain Petroglyphs site in Sweetwater County, Wyoming. This Notice advises the public of an opportunity to comment on the two proposed withdrawal extensions and to request a public meeting for either of the proposals.

DATES: Comments and requests for a public meeting regarding the withdrawal applications must be received on or before July 8, 2024.

ADDRESSES: Comments and meeting requests should be sent to the BLM Wyoming State Director, 5353 Yellowstone Road, Cheyenne, Wyoming 82009.

FOR FURTHER INFORMATION CONTACT: Jackie Madson, Land Law Examiner, Wyoming State Office by phone at 307-775-6040 or at the address noted above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM has petitioned the Secretary of the Interior for permission to file two applications to extend PLO No. 6578 and PLO No. 6597 each for an additional 20-year term. The purpose of the withdrawal extensions is to continue to protect and preserve the Castle Gardens Recreation Area and the White Mountain Petroglyphs Site. The BLM's petition to file such applications has been approved by an appropriate Secretarial official, rendering it a withdrawal extension proposal.

The withdrawal established by PLO No. 6578 (49 FR 46144, November 23, 1984) as extended by PLO No. 7612 (69 FR 51320, August 18, 2004) for the Castle Gardens Recreation Site is incorporated herein by reference and expires November 22, 2024, unless the withdrawal is extended.

Sixth Principal Meridian, Wyoming

T. 46 N., R. 89 W.,

Sec. 15, S½NE¼NW¼, NE¼SE¼NW¼NW¼, S½SE¼NW¼NW¼, E½NW¼SW¼NW¼, NE¼SW¼NW¼, N½SE¼SW¼NW¼, SE¼SE¼SW¼NW¼, SE¼NW¼, and N½NE¼SW¼.

The area described contains 110 acres in Washakie County.

The withdrawal established by PLO No. 6597 (50 FR 11865) as extended by PLO No. 7621 (70 FR 1466) for the White Mountain Petroglyphs Site is incorporated herein by reference and expires March 25, 2025, unless the withdrawal is extended.

Sixth Principal Meridian, Wyoming

T. 22 N., R. 105 W.,

Sec. 11, NE¼SE¼SE¼, N½SW¼SE¼SE¼;

Sec. 12, W½NW¼SW¼SW¼.

The area described contains 20 acres in Sweetwater County.

The use of a right-of-way, interagency agreement, or cooperative agreement would not constrain nondiscretionary uses.

There are no suitable alternative sites available. There are no other Federal lands in the area containing these recreational values and unique features.

No water rights would be needed to fulfill the purpose of this withdrawal extension.

Before including your address, phone number, email address, or other personal identifying information in your comment, you should be aware that your entire comment—including your personally identifying information—may be made publicly available at any time. While you may ask the BLM in your comment to withhold your personal identifying information from public review, we cannot guarantee that we will be able to do so.

Comments, including name and street address of respondents, will be available for public review at the BLM Wyoming State Office, 5353 Yellowstone Road, Cheyenne, Wyoming, during regular business hours 8:00 a.m. to 4:30 p.m., Monday through Friday, except holidays.

Notice is hereby given that an opportunity for a public meeting is afforded in connection with the proposed withdrawal extensions. All interested persons who desire a public meeting for the purpose of being heard on the proposed withdrawal extensions must submit a written request to the State Director, BLM Wyoming State Office at the address in the ADDRESSES section, within 90 days from the date of publication of this Notice. If the authorized officer determines that a public meeting will be held, a Notice of the date, time, and place will be published in the Federal Register and local newspapers and will be posted on the BLM website at: www.blm.gov at least 30 days before the scheduled date of the meeting.

This withdrawal extension proposals will be processed in accordance with the regulations set forth in 43 CFR 2310.4.

(Authority: 43 U.S.C. 1714)

Andrew Archuleta,
Wyoming State Director.

[FR Doc. 2024-07445 Filed 4-8-24; 8:45 am]

BILLING CODE 4331-26-P